DEPARTMENT OF ENERGY

Federal Energy Regulatory Commission

Combined Notice of Filings #1

Take notice that the Commission received the following exempt wholesale generator filings:

Docket Numbers: EG26-88-000.

Applicants: Raven Storage, LLC.

Description: Raven Storage, LLC submits Notice of Self-Certification of Exempt Wholesale Generator Status.

Filed Date: 12/4/25.

Accession Number: 20251204-5025.

Comment Date: 5 p.m. ET 12/26/25.

Docket Numbers: EG26-89-000.

Applicants: Bee Hollow Solar, LLC.

Description: Bee Hollow Solar, LLC submits Notice of Self-Certification of Exempt Wholesale Generator Status.

Filed Date: 12/4/25.

Accession Number: 20251204-5026.

Comment Date: 5 p.m. ET 12/26/25.

Take notice that the Commission received the following electric rate filings:

Docket Numbers: ER26-41-000; ER26-42-000; ER26-43-000; ER26-44-000; ER26-45-000; ER26-46-000; ER26-47-000; ER26-48-000.

Applicants: Wildwood Energy Storage, LLC, Tuscola Wind Energy II, LLC, Pheasant Run Wind Energy, LLC, Heartland Divide Wind Energy, LLC, Greer Energy Storage, LLC, Delta Bobcat Energy Storage, LLC, Butler Ridge Wind, LLC, Big Cypress Energy Storage, LLC.

Description: Supplement to 10/06/2025, Big Cypress Energy Storage, LLC, et al. tariff filing.

Filed Date: 11/26/25.

Accession Number: 20251126-5482.

Comment Date: 5 p.m. ET 12/8/25.

Docket Numbers: ER26-591-001.

Applicants: PJM Interconnection, L.L.C.

Description: Tariff Amendment: Amendment of Notice of Cancellation, SA No. 7033; AF2-166 in Docket ER26-591-000 to be effective 1/24/2026.

Filed Date: 12/4/25.

Accession Number: 20251204-5106.

Comment Date: 5 p.m. ET 12/26/25.

Docket Numbers: ER26-595-001.

Applicants: PJM Interconnection, L.L.C.

Description: Tariff Amendment: Amendment of Notice of Cancellation, SA No. 6705; AE1-056 in Docket ER26-595-001 to be effective 1/24/2026.

Filed Date: 12/4/25.

Accession Number: 20251204-5140.

Comment Date: 5 p.m. ET 12/26/25.

Docket Numbers: ER26-637-001.

Applicants: Pineview Solar, LLC.

Description: Tariff Amendment: Supplement to Market-Based Rate to be effective 1/14/2026.

Filed Date: 12/3/25.

Accession Number: 20251203-5215.

Comment Date: 5 p.m. ET 12/24/25.

Docket Numbers: ER26-655-000.

Applicants: PJM Interconnection, L.L.C.

Description: § 205(d) Rate Filing: Notice of Cancellation of WMPA, Service Agreement No. 7301; Queue No. AG1-210 to be effective 2/3/2026.

Filed Date: 12/4/25.

Accession Number: 20251204-5037.

Comment Date: 5 p.m. ET 12/26/25.

Docket Numbers: ER26-656-000.

Applicants: Midcontinent Independent System Operator, Inc., Ameren Illinois Company.

Description: § 205(d) Rate Filing: Ameren Illinois Company submits tariff filing per 35.13(a)(2)(iii: 2025-12-04_SA 3131 Ameren Illinois-SWECI Project Spec No. 3 Collinsville Canteen to be effective 2/3/2026.

Filed Date: 12/4/25.

Accession Number: 20251204-5047.

Comment Date: 5 p.m. ET 12/26/25.

Docket Numbers: ER26-657-000.

Applicants: Midcontinent Independent System Operator, Inc.

Description: § 205(d) Rate Filing: 2025-12-04_SA 4602 ATC-Red Oak Ridge Energy GIA (E0012) to be effective 12/1/2025.

Filed Date: 12/4/25.

Accession Number: 20251204-5060.

Comment Date: 5 p.m. ET 12/26/25.

Docket Numbers: ER26-659-000.

Applicants: Duke Energy Carolinas, LLC.

Description: Tariff Amendment: DEC-DEC Termination of Provisional Interconnection Study Agreement and PLGIA to be effective 2/3/2026.

Filed Date: 12/4/25.

Accession Number: 20251204-5138

Comment Date: 5 p.m. ET 12/26/25.

Docket Numbers: ER26-660-000.

Applicants: RBC EP 2 Inc.

Description: Initial Rate Filing: Application for Market Based Rate to be effective 2/3/2026.

Filed Date: 12/4/25.

Accession Number: 20251204-5141.

Comment Date: 5 p.m. ET 12/26/25.

Docket Numbers: ER26-661-000.

Applicants: Northern States Power Company, a Minnesota corporation.

Description: § 205(d) Rate Filing: 2025-12-4 O&M Agreements-NSP to be effective 2/3/2026.

Filed Date: 12/4/25.

Accession Number: 20251204-5151.

Comment Date: 5 p.m. ET 12/26/25.

Docket Numbers: ER26-662-000.

Applicants: RBC EP 1 Inc.

Description: Initial Rate Filing: Application for Market Based Rate Authority to be effective 2/3/2026.

Filed Date: 12/4/25.

Accession Number: 20251204-5155.

Comment Date: 5 p.m. ET 12/26/25.

Docket Numbers: ER26-663-000.

Applicants: Southwestern Public Service Company.

Description: § 205(d) Rate Filing: 2025-12-4 SPS O&M Agrmt to be effective 2/3/2026.

Filed Date: 12/4/25.

Accession Number: 20251204-5160.

Comment Date: 5 p.m. ET 12/26/25.

Docket Numbers: ER26-664-000.

Applicants: Public Service Company of Colorado.

Description: § 205(d) Rate Filing: 2025-12-4 O&M Agreements-PSCo to be effective 2/3/2026.

Filed Date: 12/4/25.

Accession Number: 20251204-5163.

Comment Date: 5 p.m. ET 12/26/25.

Docket Numbers: ER26-665-000.

Applicants: Tucson Electric Power Company.

Description: § 205(d) Rate Filing: Rate Schedule No. 360 to be effective 12/5/2025.

Filed Date: 12/4/25.

Accession Number: 20251204-5173.

Comment Date: 5 p.m. ET 12/26/25.

Take notice that the Commission received the following public utility holding company filings:

Docket Numbers: PH26-3-000.

Applicants: AlphaStruxure ProjectHoldCo, L.P.

Description: AlphaStruxure ProjectHoldCo, L.P. submits FERC-65A Notice of Change in Fact to Waiver Notification.

Filed Date: 12/3/25.

Accession Number: 20251203-5218.

Comment Date: 5 p.m. ET 12/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 4, 2025.
Carlos D. Clay,
Deputy Secretary.

[FR Doc. 2025-22333 Filed 12-8-25; 8:45 am]

BILLING CODE 6717-01-P